DEPARTMENT OF AGRICULTURE

Animal and Plant Health Inspection Service

9 CFR Part 93

[Docket No. APHIS-2006-0107]

Spring Viremia of Carp; Import Restrictions on Certain Live Fish, Fertilized Eggs, and Gametes

AGENCY: Animal and Plant Health Inspection Service, USDA.

ACTION: Interim rule; delay of effective date.

SUMMARY: We recently amended the regulations to restrict the importation into the United States of live fish, fertilized eggs, and gametes of fish species that are susceptible to spring viremia of carp, a serious contagious viral disease of carp. That interim rule was scheduled to become effective on September 29, 2006. We are delaying that effective date by 30 days. This delay is needed to give importers and foreign exporters additional time to meet requirements of the rule.

DATES: The effective date for the interim rule amending 9 CFR part 93, published at 71 FR 51429, August 30, 2006, is delayed until October 30, 2006.

FOR FURTHER INFORMATION CONTACT: Dr. Peter L. Merrill, Aquaculture Specialist, National Center for Import and Export, VS, APHIS, 4700 River Road Unit 39, Riverdale, MD 20737-1231; (301) 734-0649; or Dr. Jill B. Rolland, Fishery Biologist, National Center for Animal Health Programs, VS, APHIS, 4700 River Road Unit 46, Riverdale, MD 20737-1231; (301) 734-7727.

SUPPLEMENTARY INFORMATION:

Background

Spring viremia of carp (SVC) is a disease of certain species of finfish, caused by an eponymous rhabdovirus. The following species are considered susceptible to SVC: Common carp, including koi (Cyprinus carpio), grass carp (Ctenopharyngodon idellus), silver carp (Hypophthalmichthys molitrix), bighead carp (Aristichthys nobilis), Crucian carp (Carassius carassius), goldfish (Carassius auratus), tench (Tinca tinca), and sheatfish (Silurus glanis). SVC was first reported in Yugoslavia in 1969 and has since spread to other European countries as well as Asia. SVC is considered extremely contagious, and there are currently no U.S.-approved vaccines or treatments for the virus.

On August 30, 2006, we published a final rule in the Federal Register (71 FR 51429-51437) amending 9 CFR part 93 by establishing regulations to restrict the importation into the United States of live fish, fertilized eggs, and gametes of fish species that are susceptible to spring viremia of carp, a serious contagious viral disease of carp. Under that rule, importers of SVC-susceptible species must obtain an import permit and a health certificate from the shipment's region of origin certifying that the live fish, fertilized eggs, or gametes originated in an SVC-free region. This certification must be supported by ongoing SVC surveillance for 2 years conducted under specific conditions. In addition, live fish, fertlized eggs, and gametes of SVC-susceptible species will be subject to other restrictions that they have not been in the past, such as having to be imported through designated ports of entry and meeting containment requirements for shipments that are in transit through the United States. Importers will also be subject to user fees for obtaining import permits and port of entry inspections. Live cultures of SVC virus, preserved SVC virus viral RNA or DNA, tissue samples containing viable SVC virus, or other specimens intended for diagnostic or research purposes and which contain viable SVC virus will also be allowed importation only under permit in accordance with 9 CFR part 122.

Delay in Effective Date

Since the rule's publication, APHIS has received requests from U.S. importers and foreign exporters of these fish species (which include koi and goldfish, two economically important commodities) as well as from a number of foreign government authorities seeking an additional period of time in which to prepare to meet these requirements. In response, we are delaying the effective date until October 30, 2006.

Authority: 7 U.S.C. 1622 and 8301-8317; 21 U.S.C. 136 and 136a; 31 U.S.C. 9701; 7 CFR 2.22, 2.80, and 371.4.

Done in Washington, DC, this 22nd day of September 2006.
W. Ron DeHaven,
Administrator, Animal and Plant Health Inspection Service.

[FR Doc. 06-8322 Filed 9-26-06; 8:45 am]

BILLING CODE 3410-34-P